LEGAL SERVICES CORPORATION

Sunshine Act Meeting of the Board of Directors Finance Committee

TIME AND DATE: The Finance Committee of the Legal Services Corporation Board of Directors will meet on September 17, 2000. The meeting will begin at 4:30 p.m. and continue until the Committee concludes its agenda.

LOCATION: San Francisco Marriott, 55 Fourth Street, San Francisco, California 94103.

STATUS OF MEETING: Open.

MATTERS TO BE CONSIDERED: 1. Approval of agenda.

2. Approval of the minutes of the Committee's meeting of June 25, 2000.

3. Report on LSC's Consolidated Operation Budget, Expenses and Other Funds Available through July 31, 2000.

4. Report on the projected operating expenses for fiscal year 2000 based on operating experiences through June 30, 2000.

5. Report on the internal budgetary adjustments.

6. Consider and act on the President's recommendations for Consolidated Operating Budget reallocations.

7. Consider and act on proposed Temporary Operating Budget for Fiscal Year 2001.

8. Briefing by Randi Youells, Vice President for Programs, and Carolyn Worrell of LSC's Office of Program Performance, on changes in LSC's services in Indian Country.

9. Consider and act on budget mark for fiscal year 2002.

10. Consider and act on other business.

11. Public comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Shannon Nicko Adaway, at (202) 336-8800.

September 7, 2000.
Victor M. Fortuno,
Vice President for Legal Affairs, General Counsel & Corporate Secretary.

[FR Doc. 00-23516 Filed 9-8-00; 2:11 pm]

BILLING CODE 7050-01-P